FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in the BHC Act (12 U.S.C. 1842(c)).

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Benjamin W. McDonough, Deputy Secretary of the Board, 20th Street and Constitution Avenue NW, Washington, DC 20551-0001, not later than December 12, 2025.

A. Federal Reserve Bank of Boston (Prabal Chakrabarti, Executive Vice President) 600 Atlantic Avenue, Boston, Massachusetts 02210-2204. Comments can also be sent electronically to BOS.SRC.Applications.Comments@bos.frb.org:

1. 1850 Financial MHC and 1850 Financial Inc., both of Ware, Massachusetts; to become bank holding companies by acquiring Country Bank for Savings, Ware, Massachusetts (“CBS”), upon the conversion of CBS from mutual to stock form.

B. Federal Reserve Bank of New York (Keith Goodwin, Head of Bank Applications) 33 Liberty Street, New York, New York 10045-0001. Comments can also be sent electronically to Comments.applications@ny.frb.org:

1. UBS Group AG and UBS AG, both of Zurich, Switzerland, and UBS Americas Holding LLC and UBS Americas Inc., both of New York, New York, to become bank holding companies by acquiring UBS Bank USA, Salt Lake City, Utah, upon the conversion of UBS Bank USA from a state-chartered industrial bank to a national bank.

C. Federal Reserve Bank of Cleveland (Jenni M. Frazer, Vice President) 1455 East Sixth Street, Cleveland, Ohio 44101-2566. Comments can also be sent electronically to Comments.applications@clev.frb.org:

1. Fifth Third Bancorp and Fifth Third Financial Corporation, both of Cincinnati, Ohio; to acquire Comerica Incorporated, and thereby indirectly acquire Comerica Holdings, Incorporated, both of Dallas, Texas, and thereby indirectly acquire Comerica Bank, Dallas, Texas, and Comerica Bank & Trust, National Association, Ann Arbor, Michigan.

D. Federal Reserve Bank of Atlanta [(Erien O. Terry, Assistant Vice President) 1000 Peachtree Street NE, Atlanta, Georgia 30309; Comments can also be sent electronically to Applications.Comments@atl.frb.org:

1. Fleur Capital Corporation, Simmesport, Louisiana; to become a bank holding company by acquiring Simmesport State Bank, Simmesport, Louisiana.

2. Recap Financial Ventures, LLC, Franklin, Tennessee; to become a bank holding company by acquiring Lineage Financial Network, Inc., and thereby indirectly acquiring Lineage Bank, both of Franklin, Tennessee.

E. Federal Reserve Bank of Chicago (Colette A. Fried, Assistant Vice President) 230 South LaSalle Street, Chicago, Illinois 60690-1414. Comments can also be sent electronically to Comments.applications@chi.frb.org:

1. Mercantile Bank Corporation, Grand Rapids, Michigan; to acquire Eastern Michigan Financial Corporation, and thereby indirectly acquire Eastern Michigan Bank, both of Croswell, Michigan.

2. University Bancorp, Inc., Ann Arbor, Michigan, to acquire 8.93 percent of the voting shares of Greater Pacific Bancshares, and thereby indirectly acquire voting shares of Bank of Whittier, National Association, both of Whittier, California.

F. Federal Reserve Bank of St. Louis (Holly A. Rieser, Senior Manager) P.O. Box 442, St. Louis, Missouri 63166-2034. Comments can also be sent electronically to Comments.applications@stls.frb.org:

1. Reliable Community Bancshares, Inc., Perryville, Missouri; to acquire M1 Bancshares, Inc., and thereby indirectly acquire M1 Bank, both of Clayton, Missouri. In connection with that transaction, BN1 Acquisition Corp., Perryville, Missouri, a subsidiary of Reliable Community Bancshares, Inc., would become a bank holding company by merging with M1 Bancshares, Inc., and thereby indirectly acquiring M1 Bank.

G. Federal Reserve Bank of Minneapolis (Mark Nagle, Assistant Vice President) 90 Hennepin Avenue, Minneapolis, Minnesota 55480-0291. Comments can also be sent electronically to MA@mpls.frb.org:

1. Stearns Financial Services, Inc. Employee Stock Ownership Plan and its subsidiary Stearns Financial Services, Inc., both of Saint Cloud, Minnesota; to acquire One American Financial Corporation, Sioux Falls, South Dakota, and thereby indirectly acquire One American Bank, Centerville, South Dakota.

H. Federal Reserve Bank of Kansas City (Jeffrey Imgarten, Assistant Vice President) 1 Memorial Drive, Kansas City, Missouri 64198-0001. Comments can also be sent electronically to KCApplicationComments@kc.frb.org:

1. Integra BG, LLC, Jackson, Wyoming; to become a bank holding company by acquiring UCSB Financial Corporation, and thereby indirectly acquiring Uinta Bank, both of Mountain View, Wyoming.

2. National Bank Holdings Corporation, Greenwood Village, Colorado; to merge with Vista Bancshares, Inc., and thereby indirectly acquire Vista Bank, both of Dallas, Texas.

I. Federal Reserve Bank of Dallas (Lindsey Wieck, Director, Mergers & Acquisitions) 2200 North Pearl Street, Dallas, Texas 75201-2272. Comments can also be sent electronically to Comments.applications@dal.frb.org:

1. Prosperity Bancshares, Inc., Houston, Texas; to merge with Southwest Bancshares, Inc., and thereby indirectly acquire Texas Partners Bank, both of San Antonio, Texas.

2. Cornerstone Capital Bancorp, Inc., Houston, Texas; to acquire Peoples Bancorp, Inc., and thereby indirectly acquire Peoples Bank, both of Lubbock, Texas.

Board of Governors of the Federal Reserve System.
Michele Taylor Fennell,
Associate Secretary of the Board.

[FR Doc. 2025-19855 Filed 11-10-25; 8:45 am]

BILLING CODE 6210-01-P